DEPARTMENT OF TRANSPORTATION

Federal Aviation Administration

14 CFR Part 71

[Docket No. FAA-2017-0565; Airspace Docket No. 17-AWP-1]

Amendment of Class D and Class E Airspace; Truckee, CA

AGENCY: Federal Aviation Administration (FAA), DOT.

ACTION: Final rule.

SUMMARY: This action establishes Class D airspace and Class E airspace designated as an extension, and modifies Class E airspace extending upward from 700 feet above the surface at Truckee-Tahoe Airport, Truckee, CA. This airspace redesign is necessary to support standard instrument approach and departure procedures under instrument flight rules (IFR) operations at the airport due to the commissioning of the Truckee-Tahoe Airport Non-Federal Contract Tower and enhances the safety and management of IFR operations at the airport. The Class E surface area airspace was inadvertently referenced as Class E extension airspace when referring to NOTAM information in the preamble, and was inadvertently omitted from the regulatory text.

DATES: Effective 0901 UTC, March 29, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 1601 Lind Avenue SW, Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and E airspace at Truckee-Tahoe Airport, Truckee, CA, in support of IFR operations at the airport.

History

On July 28, 2017, the FAA published in the Federal Register (82 FR 35129) Docket FAA-2017-0565, a notice of proposed rulemaking (NPRM) to establish Class D airspace, and Class E airspace designated as an extension, amend Class E surface area airspace, and modify Class E airspace extending upward from 700 feet above the surface at Truckee-Tahoe Airport, Truckee, CA. Interested parties were invited to participate in this rulemaking effort by submitting written comments on the proposal to the FAA. No comments were received.

Class D and E airspace designations are published in paragraph 5000, 6002, 6004, and 6005, respectively, of FAA Order 7400.11B, dated August 3, 2017, and effective September 15, 2017, which is incorporated by reference in 14 CFR 71.1. The Class D and E airspace designations listed in this document will be published subsequently in the Order.

Changes to the NPRM

The FAA has discovered a clerical error in the text of the preamble contained in the Proposal section of the NPRM. The second paragraph incorrectly states: “The associated Class D airspace and Class E extension airspace areas would be effective during the specific dates and times established, in advance by NOTAM.” This sentence is corrected to reference Class D and E surface area airspace. Class E extension airspace would remain in effect continuously. Also, the order of the geographic coordinates after the beginning lat./long. coordinates used to define Class E airspace extending upward from 700 feet above the surface is reversed to assist in cartography and publication. There is no change in the overall dimensions or location of the airspace as listed in the NPRM.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by establishing Class D airspace, and Class E airspace designated as an extension, and amending Class E surface area airspace and Class E airspace extending upward from 700 feet above the surface, at Truckee-Tahoe Airport, Truckee, CA, to support the commissioning of a Non-Federal Contract Tower, and to support standard instrument approach and departure procedures under IFR operations at the airport. Additionally, the following sentences are added to the Class E surface area airspace to designate effective times when the Class D is not in effect: “This Class E surface area is effective during the specific dates and times established, in advance, by a Notice to Airmen. The effective date and time will thereafter be continuously published in the Chart Supplement.”

Class D airspace is established upward from the surface to and including 8,400 feet MSL within a 4.2-mile radius of Truckee-Tahoe Airport, and includes the Notice to Airmen (NOTAM) part-time language.

Class E surface area airspace, inadvertently omitted from the NPRM, is amended to include the NOTAM part-time language.

Class E airspace designated as an extension to a Class D or Class E surface area is established in two segments approximately four (4) miles wide, one extending to approximately 10 miles north, and one 12 miles northwest, of Truckee-Tahoe Airport. The additional language “extending upward from the surface” was added to the regulatory text to improve clarity.

Class E airspace extending upward from 700 feet above the surface is shifted slightly east to precisely align with the RNAV instrument approach procedures to runways 11 and 02. Also, a small area is expanded north of Truckee-Tahoe Airport to provide controlled airspace for IFR departures using runway 29.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

AWP CA D Truckee, CA [New]

Truckee-Tahoe Airport, CA

(Lat. 39°19′12″ N, long. 120°08′22″ W)

That airspace extending upward from the surface to and including 8,400 feet MSL within a 4.2-mile radius of Truckee-Tahoe Airport. This Class D surface area is effective during the specific dates and times established, in advance, by a Notice to Airmen. The effective date and time will thereafter be continuously published in the Chart Supplement.

Paragraph 6002 Class E Airspace Designated as Surface Areas.

* * * * *

AWP CA E2 Truckee, CA [Amended]

Truckee-Tahoe Airport, CA

(Lat. 39°19′12″ N, long. 120°08′22″ W)

That airspace extending upward from the surface within a 4.2-mile radius of Truckee-Tahoe Airport. This Class E surface area is effective during the specific dates and times established, in advance, by a Notice to Airmen. The effective date and time will thereafter be continuously published in the Chart Supplement.

Paragraph 6004 Class E Airspace Designated as an Extension to a Class D or Class E Surface Area.

* * * * *

AWP CA E4 Truckee, CA [New]

Truckee-Tahoe Airport, CA

(Lat. 39°19′12″ N, long. 120°08′22″ W)

That airspace extending upward from the surface within a line beginning at the point where the 279° bearing from Truckee-Tahoe Airport intersects the 4.2-mile radius of the airport to lat. 39°26′41″N, long. 120°20′43″W, to lat. 39°29′27″N, long. 120°16′17″ W, to the point where the 344° bearing from the airport intersects the 4.2-mile radius of the airport, thence counterclockwise along the 4.2-mile radius of the airport to the point of beginning, and that airspace within a line beginning at the point where the 352° bearing from the airport intersects the 4.2-mile radius of the airport to lat. 39°29′18″ N, long. 120°06′57″ W, to lat. 39°28′11″ N, long. 120°01′44″ W, to the point where the 053° bearing from the airport intersects the 4.2-mile radius of the airport, thence counterclockwise along the 4.2-mile radius of the airport to the point of beginning.

Paragraph 6005 Class E Airspace Areas Extending Upward From 700 Feet or More Above the Surface of the Earth.

* * * * *

AWP CA E5 Truckee, CA [Modified]

Truckee-Tahoe Airport, CA

(Lat. 39°19′12″ N, long. 120°08′22″ W)

That airspace extending upward from 700 feet above the surface within a line beginning at lat. 39°26′41″ N, long. 120°20′43″ W, to lat. 39°30′34″ N, long. 120°23′37″ W, to lat. 39°32′45″ N, long. 120°18′59″ W, to lat. 39°29′27″ N, long. 120°16′17″W, thence to the point of beginning; and that airspace within a line beginning at lat. 39°29′18″N, long. 120°06′57″ W, to lat. 39°37′23″ N, long. 120°04′08″ W, to lat. 39°36′17″ N, long. 119°58′54″ W, to lat. 39°28′11″ N, long. 120°01′44″ W, thence to the point of beginning; and that airspace within 1.8 miles each side of a line extending from the point where the Truckee-Tahoe Airport 328° bearing intersects the 4.2-mile radius of the airport to the point on the 348° bearing from the airport extending 6.3 miles northwest of the airport.

Issued in Seattle, Washington, on December 11, 2017.
Brian J. Johnson,
Acting Group Manager, Operations Support Group, Western Service Center.

[FR Doc. 2017-27209 Filed 12-18-17; 8:45 am]

BILLING CODE 4910-13-P